DEPARTMENT OF TRANSPORTATION

Surface Transportation Board

[STB Finance Docket No. 34134]

Jackson County Port Authority Railroad—Operation Exemption—Jackson County Port Authority

Jackson County Port Authority Railroad (JCPARR), a noncarrier, has filed a verified notice of exemption under 49 CFR 1150.31 to operate approximately 2.9 miles of rail line owned by the Jackson County Port Authority (JCPA).¹ The lines to be operated include: (1) The Bayou Casotte trackage which extends approximately 1 mile from a connection with the Bayou Casotte Branch of CSX Transportation, Inc. (CSXT) to JCPA's Bayou Casotte Terminals where it serves two public cargo terminals, a distance (including side tracks) of approximately 1.4 miles; and (2) the Pascagoula River trackage which connects with the West Pascagoula Branch of CSXT and extends southward into JCPA's Pascagoula River Terminals where it serves four public cargo terminals and a grain elevator, a distance (including side tracks) of approximately 1.5 miles. JCPARR certifies that its projected revenues as a result of this transaction will not exceed those that would qualify it as a Class III rail carrier.

¹ JCPA is a public agency and political subdivision in the State of Mississippi.

The transaction was expected to be consummated on or after November 24, 2001.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34134, must be filed with the Surface Transportation Board, Office of the Secretary, Case Control Unit, 1925 K Street, NW., Washington, DC 20423-0001. In addition, one copy of each pleading must be served on John D. Heffner, 555 Twelfth Street, NW., Suite 950N, Washington, DC 20004.

Board decisions and notices are available on our web site at “WWW.STB.DOT.GOV.”

Decided: November 27, 2001.
By the Board, David M. Konschnik, Director, Office of Proceedings.
Vernon A. Williams,
Secretary.

[FR Doc. 01-29997 Filed 12-4-01; 8:45 am]

BILLING CODE 4915-00-P